ENVIRONMENTAL PROTECTION AGENCY

[FRL-9623-6]

Notification of Two Public Teleconferences of the Science Advisory Board Ecological Processes and Effects Committee

AGENCY: Environmental Protection Agency (EPA).

ACTION: Notice.

SUMMARY: The Environmental Protection Agency (EPA or Agency) Science Advisory Board (SAB) Staff Office announces two public teleconferences of the SAB Ecological Processes and Effects Committee (EPEC). The SAB EPEC will provide advice on the EPA Risk Assessment Forum (RAF) document, “Integrating Ecological Assessment and Decision-Making at EPA, 2011 RAF Ecological Assessment Action Plan (August, 11, 2011).”

DATES: The SAB Ecological Processes and Effects Committee will conduct public teleconferences on February 22, 2012 and February 23, 2012. The teleconferences will begin at 12:00 noon and end at 4 p.m. (Eastern Time) on each day.

ADDRESSES: The public teleconferences will be conducted by telephone only.

FOR FURTHER INFORMATION CONTACT: Any member of the public wishing further information regarding the public teleconferences may contact Dr. Thomas Armitage, Designated Federal Officer (DFO), SAB Staff Office, by telephone/voice mail at (202) 564-2155 or via email at armitage.thomas@epa.gov. General information concerning the EPA Science Advisory Board can be found at the EPA SAB Web site at http://www.epa.gov/sab.

SUPPLEMENTARY INFORMATION: Background: The SAB was established pursuant to the Environmental Research, Development, and Demonstration Authorization Act (ERDAA) codified at 42 U.S.C. 4365, to provide independent scientific and technical peer review, advice, consultation and recommendations to the EPA Administrator on the technical basis for EPA actions. As a Federal Advisory Committee, the SAB conducts business in accordance with the Federal Advisory Committee Act (FACA) (5 U.S.C. App. 2) and related regulations. Pursuant to FACA and EPA policy, notice is hereby given that the SAB EPEC, augmented with other experts, will hold two public teleconferences to provide advice through the chartered SAB on the EPA Risk Assessment Forum (RAF) document, “Integrating Ecological Assessment and Decision-Making at EPA, 2011 RAF Ecological Assessment Action Plan (August, 11, 2011).” The SAB Committee will comply with the provisions of FACA and all appropriate SAB Staff Office procedural policies.

In response to recommendations in a 2007 SAB Report, “Advice to EPA on Advancing the Science and Application of Ecological Risk Assessment in Environmental Decision-Making” (EPA-SAB-08-002), the EPA Risk Assessment Forum in the Office of the Science Advisor held an EPA ecological assessment colloquium and developed an action plan titled, “Integrating Ecological Assessment and Decision-Making at EPA, 2011 RAF Ecological Assessment Action Plan (August, 11, 2011).” The action plan proposes initiatives to improve the quality, scope, and application of the EPA's ecological assessments. Initiatives outlined in the action plan address high priority recommendations in the EPA colloquium report, “Integrating Ecological Assessment and Decision-Making at EPA: A Path Forward” (EPA/100/R-10/004). EPA's Office of the Science Advisor has requested that the SAB Ecological Processes and Effects Committee review the Agency's ecological assessment action plan and related background documents, and provide advice on the technical merit and implementation of proposed initiatives. The SAB EPEC will be augmented with experts who participated in the SAB 2007 review.

Availability of the review materials: The agenda and material in support of this meeting will be available on the SAB Web site at http://www.epa.gov/sab. For technical questions and information concerning EPA's review document, “Integrating Ecological Assessment and Decision-Making at EPA, 2011 RAF Ecological Assessment Action Plan (August, 11, 2011),” please contact Mr. Lawrence Martin of EPA's Risk Assessment Forum by phone (202) 564-6497 or via email at martin.lawrence@epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to EPA's charge, meeting materials and/or the group conducting the activity. Input from the public to the SAB will have the most impact if it consists of comments that provide specific scientific or technical information or analysis for the SAB Committee to consider or if it relates to the clarity or accuracy of the technical information. Members of the public wishing to provide comment on the February 22, 2012 public teleconference should contact the Designated Federal Officer for the relevant advisory committee directly. Oral Statements: In general, individuals or groups requesting an oral presentation will be limited to five minutes per speaker. Interested parties should contact Dr. Thomas Armitage, DFO, in writing (preferably via email), at the contact information noted above, by February 15, 2012 to be placed on the list of public speakers for February 22, 2012. Written Statements: Written statements should be received in the SAB Staff Office by February 15, 2012 so that the information may be made available to the SAB Committee for their consideration. Written statements should be supplied to the DFO in electronic format via email (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Thomas Armitage at the phone number or email address noted above, preferably at least ten days prior to the teleconference, to give EPA as much time as possible to process your request.

Dated: January 20, 2012.
Vanessa T. Vu,
Director, EPA Science Advisory Board Staff Office.

[FR Doc. 2012-1823 Filed 1-26-12; 8:45 am]

BILLING CODE 6560-50-P